DEPARTMENT OF TRANSPORTATION

Pipeline and Hazardous Materials Safety Administration

Hazardous Materials: Notice of Application for Modification of Special Permit

AGENCY: Office of Hazardous Materials Safety, Pipeline and Hazardous Materials Safety Administration (PHMSA), DOT.

ACTION: List of applications for modification of special permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before July 17, 2015.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://regulations.gov.

This notice of receipt of applications for modification of special permit is published in accordance with Part 107 of the Federal hazardous materials transportation law (49 U.S.C. 5117(1)); 49 CFR 1.53(b)).

Issued in Washington, DC, on June 23, 2015.
Ryan Paquet,
Director, Approvals and Permits Division.

Modification Special Permits
Application No. | Docket No. | Applicant | Regulation(s) affected | Nature of special thereof
10915-M |  | Luxfer Gas Cylinders Riverside, CA | 49 CFR 173.302a, 173.304a and 180.205 | To modify the special permit to allow cylinders of pressurized oxygen to exceed 3000 psig at 21°C (70 °F).
13997-M |  | Maritime Helicopters, Inc. Homer, AK | 49 CFR 172.101(9b)m 172.204(c)(3), 173.27(b)(2), 175.30(a)(1), 172.200, 172.300, 172.400, 175.75, 172.301(c), 172.302(c), and Part 178 | To modify the special permit to authorize additional hazardous materials.
14349-M |  | Matheson Tri-Gas Basking Ridge, NJ | 49 CFR 173.3(d)(2)(ii) | To modify the special permit to authorize additional hazardous materials to be transported in a salvage cylinder.
15515-M |  | National Aeronautics and Space Administration (NASA) Houston, TX | 49 CFR 173.302a, 173.301(f)(1), 173.301(h)(3), 173.302(f)(2) and 173.302(f)(4) | To authorize an active PRD and add operational controls to authorized an alternative to the requirement for a rigid outer packaging.
15689-M |  | AVL Test Systems Inc. Plymouth, MI | 49 CFR 172.200, 177.834 | To modify the special permit to authorize additional packaging and mounting system for optional use.
15747-M |  | United Parcel Service, Inc. Atlanta, GA | 49 CFR 177.817(a), 177.817(e), 172.606(b), and 172.203(a) | To modify the special permit to authorize marking on two sides of certain trailers.
16340-M |  | Praxair Distribution, LLC Newark, NJ | 49 CFR 171.2 and 177.801 | To reissue the special permit that was originally issued on an emergency basis with a 2 Year renewal.

[FR Doc. 2015-15847 Filed 7-1-15; 8:45 am]

BILLING CODE 4909-60-M